DEPARTMENT OF JUSTICE

Notice of Lodging of Proposed Consent Decree Under the Clean Water Act, Clean Air Act and Resource Conservation and Recovery Act

On May 12, 2017, the Department of Justice lodged a proposed consent decree with the United States District Court for the District of Puerto Rico in the lawsuit entitled United States v. Homeca Recycling Center Co., Inc., Civil No.: 17-1618. The United States filed this lawsuit under the Clean Air Act, the Clean Water Act and the Resource Conservation and Recovery Act.

Homeca Recycling Center Co., Inc. (“Homeca”) operates three scrap metal recycling facilities in Caguas, Playa Ponce, and Hormigueros, Puerto Rico. At these facilities it crushes vehicles and white goods for shipment to metal refineries. The complaint alleges that Homeca violated the above statutes by, among other things: (a) Allowing liquids from the vehicles to leak onto and contaminate the bare ground; (b) allowing these liquids to flow off-site and into United States waters during storm events; and (c) improperly managing motor vehicle air conditioner (“MVAC”) refrigerants. The complaint seeks civil penalties for these past violations.

The proposed settlement requires Homeca to pay a $50,000 civil penalty and to establish and follow various practices that will ensure that it maintains compliance with the statutes and applicable regulations in the future. These include constructing bermed and covered concrete pads at its facilities, removing of all fluids from vehicles prior to crushing, implementing corrective action at its facilities, removing refrigerants from MVACs, and obtaining permit coverage under, and maintaining compliance with, a multi-sector general permit covering storm water discharges.

The Consent Decree will resolve the claims of the United States for the violations alleged in the complaint through the date of lodging of the consent decree.

The publication of this notice opens a period for public comment on the proposed consent decree. Comments should be addressed to the Assistant Attorney General, Environment and Natural Resources Division, and should refer to United States v. Homeca Recycling Center Co., Inc., Civ. No. 17-1618, D.J. Ref. No. 90-7-1-10023. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $7.00 (25 cents per page reproduction cost) payable to the United States Treasury.

Robert E. Maher, Jr.,
Assistant Section Chief, Environment and Natural Resources Division, Environmental Enforcement Section.

[FR Doc. 2017-10039 Filed 5-17-17; 8:45 am]

BILLING CODE 4410-15-P